DEPARTMENT OF TRANSPORTATION

Coast Guard

[USCG 2002-11724]

Collection of Information Under Review by Office of Management and Budget (OMB): OMB Control Numbers 2115-0071 and 2115-0038

AGENCY: Coast Guard, DOT.

ACTION: Request for comments.

SUMMARY: In compliance with the Paperwork Reduction Act of 1995, the Coast Guard intends to seek the approval of OMB for the renewal of two Information Collection Requests (ICRs). The ICRs comprise (1) Official Logbook, and (2) Applications for Private Aids to Navigation and for Class I Private Aids to Navigation on Artificial Islands and Fixed Structures. Before submitting the ICRs to OMB, the Coast Guard is inviting comments on them as described below.

DATES: Comments must reach the Coast Guard on or before May 13, 2002.

ADDRESSES: To make sure that your comments and related material do not enter the docket [USCG 2002-11724] more than once, please submit them by only one of the following means:

(1) By mail to the Docket Management Facility, U.S. Department of Transportation, room PL-401, 400 Seventh Street SW., Washington, DC 20590-0001. Caution: Because of recent delays in the delivery of mail, your comments may reach the Facility more quickly if you choose one of the other means described below.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public, as well as documents mentioned in this notice as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

Copies of the complete ICRs are available through this docket on the Internet at http://dms.dot.gov, and also from Commandant (G-CIM-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on these documents; or Dorothy Beard, Chief, Documentary Services Division, U.S. Department of Transportation, 202-366-5149, for questions on the docket.

Request for Comments

The Coast Guard encourages interested persons to submit written comments. Persons submitting comments should include their names and addresses, identify this document [USCG 2002-11724], and give the reasons for the comments. Please submit all comments and attachments in an unbound format no larger than 8½ by 11 inches, suitable for copying and electronic filing. Persons wanting acknowledgment of receipt of comments should enclose stamped self-addressed postcards or envelopes.

Information Collection Request

1. Title: Official Logbook.

OMB Control Number: 2115-0071.

Summary: The official logbook contains information about the voyage, the vessel's crew, drills, and operations conducted during the voyage. Its entries identify all particulars of the voyage, including the name of the ship, the official number, the port of registry, the tonnage, the names and the numbers of the merchant mariners' documents of the master and crew, the nature of the voyage, and the class of ship. It also contains entries for the vessel's drafts, maintenance of watertight integrity of the ship, drills and inspections, crew list and report of character, a summary of laws applicable to Logbooks, and miscellaneous entries.

Need: 46 U.S.C. Chapter 113 requires that most merchant vessels maintain an official logbook. The logbook contains information about the vessel, voyage, and crew. Lack of these particulars would make it difficult for a seaman to verify vessel employment and wages, and for the Coast Guard to verify compliance with laws and regulations concerning vessel operations and safety procedures. The logbook serves as an official record of recordable events occurring at sea such as births, deaths, marriages, disciplinary actions etc. Absent the logbook there would be no official civil record of these events. Log entries are accepted by the courts as proof that the event recorded occurred. If this information was not collected, the Coast Guard's program for safety of commercial vessels would suffer, as there would be no official record of voyages by U.S. merchant vessels. Similarly, those seeking to prove that an event occurred would not have any record available.

Respondents: Shipping companies.

Frequency: On occasion.

Burden Estimate: The estimated burden is 1,750 hours a year.

2. Title: Applications for Private Aids to Navigation and for Class I Private Aids to Navigation on Artificial Islands and Fixed Structures.

OMB Control Number: 2115-0038.

Summary: The collection of information requires respondents to provide to the Coast Guard, on two applications (CG-2554 and CG-4143), vital information about private aids to navigation.

Need: 33 CFR parts 66 and 67 authorize the Coast Guard to collect and process the information furnished from applications for private aids to ensure that the aids appropriately mark the associated hazard or waterway.

Respondents: Owners of private aids to navigation.

Frequency: On occasion.

Burden Estimate: The estimated burden is 3,037 hours a year.

Dated: March 4, 2002.
N. S. Heiner,
Acting Director of Information and Technology.

[FR Doc. 02-5806 Filed 3-11-02; 8:45 am]

BILLING CODE 4910-15-P